DEPARTMENT OF TRANSPORTATION

Federal Aviation Administration

Proposed Revision to Advisory Circular 25.562-1A, Dynamic Evaluation of Seat Restraint Systems and Occupant Protection on Transport Airplanes

AGENCY: Federal Aviation Administration (FAA), DOT.

ACTION: Notice of proposed revision to advisory circular; extension of comment period.

SUMMARY: On January 2, 2003, the FAA published a request for public comment on a proposed revision to Advisory Circular (AC) 25.562-1A, Dynamic Evaluation of Seat Restraint Systems and Occupant Protection on Transport Airplanes. The revised AC provides guidance on an improved procedure for selection of test articles, as well as criteria for determining whether analysis or testing is appropriate for substantiation. The comment period closes April 2, 2003; however, the FAA is extending the comment period to allow additional time to review the draft AC and develop comments in response to the notice.

DATES: Comments must be received on or before May 2, 2003.

ADDRESSES: You should send your comments on the proposed revision to the Federal Aviation Administration, Attention: Jeff Gardlin, Airframe/Cabin Safety Branch, ANM-115, Transport Airplane Directorate, Aircraft Certification Service, 1601 Lind Avenue SW., Renton, WA 98055-4056. You may also submit comments electronically to: jeff.gardlin@faa.gov.

FOR FURTHER INFORMATION CONTACT: Jeff Gardlin at the above address, telephone (425) 227-2136, facsimile 425-227-1149, or e-mail jeff.gardlin@faa.gov.

SUPPLEMENTARY INFORMATION:

How Do I Obtain a Copy of the Proposed Advisory Circular Revision?

You may obtain an electronic copy of the draft advisory circular identified in this notice at the following Internet address: http://www.airweb.faa.gov/DraftAC. If you do not have access to the Internet, you may request a copy by contacting Jeff Gardlin at the address or phone number listed earlier in this announcement.

How Do I Submit Comments on the Draft Advisory Circular?

You are invited to comment on the proposed advisory material by submitting written comments, data, or views. You must identify the title of the AC and submit your comments in duplicate to the address specified above. We will consider all comments received on or before the closing date for comments before issuing the final advisory material.

Discussion

We have determined that due to the size and scope of the AC revision, a longer comment period is warranted. The comment period is therefore extended for 30 days to May 2, 2003, to allow commenters additional time to review the AC and submit comments.

Issued in Renton, Washington, on March 24, 2003.
K.C. Yanamura,
Acting Manager, Transport Airplane Directorate, Aircraft Certification Service.

[FR Doc. 03-8125 Filed 4-2-03; 8:45 am]

BILLING CODE 4910-13-M